DEPARTMENT OF HEALTH AND HUMAN SERVICES

Centers for Disease Control and Prevention

[60Day-03-79]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: National Healthcare Safety Network (NHSN)—New—National Center for Infectious Disease (NCID), Centers for Disease Control and Prevention (CDC). OMB first approved the information collection now known as the “National Nosocomial Infections Surveillance (NNIS) System” (OMB No.0920-0012) in 1970; it approved the “National Surveillance System for Healthcare Workers(NaSH)” (OMB 0920-0417) in 1997, and the “Surveillance for Bloodstream and Vascular Access Infections in Outpatient Hemodialysis Centers” (OMB No. 0920-0442) in 1999. These three data collections have been modified and are being merged to create the NHSN. The NHSN will evolve with the addition of modules and participating healthcare institutions from a wide spectrum of settings.

The NHSN is a knowledge system for accumulating, exchanging, and integrating relevant information and resources among private and public stakeholders to support local and national efforts to protect patients and to promote healthcare safety. Specifically, the data will be used to determine the magnitude of various healthcare-associated adverse events and trends in the rates of these events among patients and healthcare workers with similar risks. They will be used to detect changes in the epidemiology of adverse events resulting from new and current medical therapies and changing risks.

Healthcare institutions that participate in NHSN voluntarily report their data to the Division of Healthcare Quality Promotion in the National Center for Infectious Diseases at the Centers for Disease Control and Prevention through the National Electronic Disease Surveillance System that uses a web browser-based technology for data entry and data management. Data are collected by trained surveillance personnel using written standardized protocols. The cost to participating institutions is a computer capable of supporting an internet service provider (ISP) and access to an ISP. The table below shows the estimated annual burden in hours to collect and report data.

Title | Number of respondents | Number of responses/respondent | Burden per response (in hrs.) | Total burden (hrs.)
NHSN Application/Annual Survey | 350 | 1 | 1 | 350
Dialysis Application/Annual Survey | 80 | 1 | 1 | 80
Patient Safety Monthly Reporting Plan | 350 | 9 | 25/60 | 1,313
Patient Data | 350 | 111 | 5/60 | 3,238
Surgical Site Infection (SSI) | 200 | 27 | 25/60 | 2,250
Pneumonia (PNEU) | 200 | 54 | 25/60 | 4,500
Primary Bloodstream Infection (BSI) | 230 | 54 | 25/60 | 5,175
Urinary Tract Infection (UTI) | 150 | 45 | 25/60 | 2,813
Dialysis Incident (DI) | 80 | 90 | 12/60 | 1,440
Denominator for Procedure | 200 | 540 | 5/60 | 9,000
Denominator for Specialty Care Area (SCA) | 75 | 9 | 5 | 3,375
Denominator for Neonatal Intensive Care Unit (NICU) | 100 | 9 | 4 | 3,600
Denominator for Intensive Care Unit (ICU)/Other locations (Not NICU or SCA) | 245 | 18 | 5 | 22,050
Denominator for Outpatient | 80 | 9 | 5/60 | 60
Antimicrobia 1 Use and Resistance (AUR)—Pharmacy | 20 | 36 | 2 | 1,440
Healthcare Personnel Safety Reporting Plan | 90 | 2 | 10/60 | 30
Healthcare Personnel Exposures to Blood/Body Fluids | 90 | 42 | 1 | 3,780
Healthcare Personnel Post-exposure Prophylaxis | 90 | 6 | 15/60 | 135
Healthcare Personnel Demographic Data | 90 | 42 | 10/60 | 630
Healthcare Personnel Vaccination History | 90 | 42 | 15/60 | 945
Healthcare Personnel Facility Survey | 90 | 1 | 6 | 540
Healthcare Personnel Implementation of Engineering Controls | 90 | 1 | 6 | 540
Healthcare Personnel Survey | 30 | 1 | 10/60 | 5
Total |  |  |  | 67,289

Dated: June 12, 2003.
Thomas A. Bartenfeld,
Acting Associate Director for Policy, Planning and Evaluation, Centers for Disease Control and Prevention.

[FR Doc. 03-15330 Filed 6-17-03; 8:45 am]

BILLING CODE 4163-18-P